DEPARTMENT OF ENERGY

Unconventional Resources Technology Advisory Committee

AGENCY: Office of Fossil Energy, Department of Energy.

ACTION: Notice of open meeting.

SUMMARY: This notice announces a meeting of the Unconventional Resources Technology Advisory Committee. The Federal Advisory Committee Act (Public Law 92-463, 86 Stat. 770) requires that public notice of this meeting be announced in the Federal Register.

DATES: Wednesday, December 4, 2013, 10:00 a.m.-3:00 p.m.

ADDRESSES: U.S. Department of Energy, 1000 Independence Avenue SW., Room 3G-043, Washington, DC 20585.

FOR FURTHER INFORMATION CONTACT: Elena Melchert, U.S. Department of Energy, Office of Oil and Natural Gas, 1000 Independence Ave. SW., Washington, DC 20585. Phone: (202) 586-5600.

SUPPLEMENTARY INFORMATION: Purpose of the Committee: The purpose of the Unconventional Resources Technology Advisory Committee is to provide advice on development and implementation of programs related to onshore unconventional natural gas and other petroleum resources to the Secretary of Energy; and provide comments and recommendations and priorities for the Department of Energy Annual Plan per requirements of the Energy Policy Act of 2005, Title IX, Subtitle J, Section 999D.

Tentative Agenda

December 4, 2013

9:45 a.m. Registration.

10:00 a.m. Welcome & Introductions, Opening Remarks, Discussion of Subcommittee Reports and Findings regarding the Draft 2014 Annual Plan, Discussion of Subcommittee Recommendations, Appoint Editing Committee.

1:30 p.m. Public Comments, if any.

3:00 p.m. Adjourn.

Public Participation: The meeting is open to the public. The Designated Federal Officer and the Chairman of the Committee will lead the meeting for the orderly conduct of business. Individuals who would like to attend must RSVP to UnconventionalResources@hq.doe.gov no later than 5:00 p.m. on Friday, November 29, 2013. Please provide your name, organization, citizenship and contact information. Space is limited. Everyone attending the meeting will be required to present government issued identification. If you would like to file a written statement with the Committee, you may do so either before or after the meeting. If you would like to make oral statements regarding any of the items on the agenda, you should contact Elena Melchert at the telephone number listed above. You must make your request for an oral statement at least three business days prior to the meeting, and reasonable provisions will be made to include all who wish to speak. Public comment will follow the three-minute rule.

Minutes: The minutes of this meeting will be available for public review and copying within 60 days at http://energy.gov/fe/services/advisory-committees/unconventional-resources-technology-advisory-committee.

Issued at Washington, DC, on November 7, 2013.
LaTanya R. Butler,
Deputy Committee Management Officer.

[FR Doc. 2013-27255 Filed 11-13-13; 8:45 am]

BILLING CODE 6450-01-P